DEPARTMENT OF AGRICULTURE

Submission for OMB Review; Comment Request

January 9, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 13, 2020 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Tuberculosis.

OMB Control Number: 0579-0146.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary, to prevent the spread of any livestock or poultry pest or disease. The AHPA is contained in Title X, Subtitle E, Sections 10401-18 of Public Law 107-171, May 13, 2002, of the Farm Security and Rural Investment Act of 2002.

Disease prevention is the most effective method for maintaining a healthy animal population and enhancing the U.S. Department of Agriculture's Animal and Plant Health Inspection Service (APHIS), Veterinary Services' (VS) ability to allow U.S. animal producers to compete in the world market of animal and animal product trade.

The APHIS bovine tuberculosis (TB) regulations in Title 9, Code of Federal Regulations (9 CFR), Part 77, provide for the assignment of State TB risk classifications, the creation of TB risk status zones within the same State, and for the conduct of tests before regulated animals are permitted to move interstate. This system enhances the ability of States to move healthy, TB-free cattle, bison, and captive cervids interstate as well as internationally. Additionally, this zoning/testing system enhances the effectiveness of APHIS' TB Eradication Program by decreasing the likelihood that infected animals will be moved interstate or internationally. Both types of actions prevent the spread of TB and provide mechanisms to help VS trace, locate, and eradicate any outbreaks that occur.

Need and Use of the Information: APHIS will collect reports, requests, forms, certificates, plans, MOUs, permits, and records for zoning, testing, and animal movement. Without the information, APHIS would not be able to operate an effective bovine tuberculosis surveillance, containment, and eradication program.

Description of Respondents: Business or other for-profit; State, Local or Tribal Government.

Number of Respondents: 4,914.

Frequency of Responses: Recordkeeping; Reporting: On occasion.

Total Burden Hours: 27,830.

Ruth Brown,
Departmental Information Collection Clearance Officer.

[FR Doc. 2020-00377 Filed 1-13-20; 8:45 am]

BILLING CODE 3410-34-P